DEPARTMENT OF DEFENSE

Office of the Secretary

[Transmittal No. 25-31]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-31, Policy Justification, and Sensitivity of Technology.

Dated: January 21, 2026.
Stephanie J. Bost,
Alternate OSD Federal Register Liaison Officer, Department of Defense.

BILLING CODE 6001-FR-P

BILLING CODE 6001-FR-C

Transmittal No. 25-31

Notice of Proposed Issuance of Letter of Offer Pursuant to Section 36(b)(1) of the Arms Export Control Act, as amended

(i) Prospective Purchaser: Government of the Netherlands

(ii) Total Estimated Value:

Major Defense Equipment * | $200 million
Other | $ 15 million
TOTAL | $215 million

(iii) Description and Quantity or Quantities of Articles or Services under Consideration for Purchase:

Major Defense Equipment (MDE):

Two hundred ninety-six (296) AGM-179A Joint Air-to-Ground Missiles (JAGM)

Non-Major Defense Equipment:

The following non-MDE items will also be included: AGM-179 JAGM Captive Air Training Missiles (CATM); Tactical Aviation Ground Munition Program (TAGM) office technical assistance; Security Assistance Management Directorate (SAMD), Joint Attack Munition Systems (JAMS) technical assistance; missile handling training; classified and unclassified publications; spare parts; repair and return; storage; and other related elements of logistics and program support.

(iv) Military Department: Army (NE-B-YBD)

(v) Prior Related Cases, if any: NE-B-PCJ

(vi) Sales Commission, Fee, etc., Paid, Offered, or Agreed to be Paid: None known at this time

(vii) Sensitivity of Technology Contained in the Defense Article or Defense Services Proposed to be Sold: See Attached Annex

(viii) Date Report Delivered to Congress: June 12, 2025

* as defined in Section 47(6) of the Arms Export Control Act.

POLICY JUSTIFICATION

The Netherlands—Joint Air-to-Ground Missiles

The Government of the Netherlands has requested to buy two hundred ninety-six (296) AGM-179A Joint Air-to-Ground Missiles (JAGM). The following non-MDE items will also be included: AGM-179 JAGM Captive Air Training Missiles (CATM); Tactical Aviation Ground Munition Program (TAGM) office technical assistance; Security Assistance Management Directorate (SAMD), Joint Attack Munition Systems (JAMS) technical assistance; missile handling training; classified and unclassified publications; spare parts; repair and return; storage; and other related elements of program and logistical support. The estimated total cost is $215 million.

This proposed sale will support the foreign policy and national security objectives of the United States (U.S.) by improving the security of a NATO Ally that is a force for political stability and economic progress in Europe.

The Netherlands intends to use these defense articles and services to modernize its armed forces and expand its capability to strengthen its homeland defense and deter regional threats. This will contribute to the Netherlands' military goals of updating capability while further enhancing interoperability with the U.S. and other allies. These systems will be employed by AH-64 Apache attack helicopters operated by the Royal Netherlands Air Force (RNLAF). The Netherlands will have no difficulty absorbing this equipment into its armed forces.

The proposed sale of this equipment and support will not alter the basic military balance in the region.

The principal contractor will be Lockheed Martin Corporation, located in Orlando, FL. At this time, the U.S. Government is not aware of any offset agreement proposed in connection with this potential sale. Any offset agreement will be defined in negotiations between the purchaser and the contractor.

Implementation of this proposed sale will require approximately three U.S. Government and three contractor representatives to travel to the Netherlands for program management reviews to support the program. Travel is expected to occur approximately twice per year as needed to support equipment fielding and training.

There will be no adverse impact on U.S. defense readiness as a result of this proposed sale.

Transmittal No. 25-31

Notice of Proposed Issuance of Letter of Offer Pursuant to Section 36(b)(1) of the Arms Export Control Act, as amended

(vii) Sensitivity of Technology

1. The Joint Air-to-Ground Missile (JAGM) all up round (AUR), designated AGM-179A, consists of a HELLFIRE Romeo (AGM-114R) back end (i.e., propulsion, warhead, and control sections) mated to a newly designed, dual-mode guidance section (GS). The JAGM sensors provide improved precision and fire-and-forget capabilities. This combination allows targeting capability against fast moving and stationary targets in countermeasure and intensive battlefield environments and in low cloud ceiling and adverse weather and against low radar cross section targets. Firing modes include lock-on before launch (LOBL) and lock-on after launch. The JAGM can be employed from rotary-wing and select fixed-wing aircraft, wheeled and tracked vehicles, ground-based pedestal launchers, and patrol boats. The AGM-179 JAGM Captive Air Training Missile (CATM) is a flight-training missile that consists of a functional guidance section coupled to an inert missile bus.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that the Netherlands can provide substantially the same degree of protection for the sensitive technology being released as the U.S. Government. This sale is necessary in furtherance of the U.S. foreign policy and national security objectives outlined in the Policy Justification.

5. All defense articles and services listed in this transmittal have been authorized for release and export to the Government of the Netherlands.

[FR Doc. 2026-01339 Filed 1-23-26; 8:45 am]

BILLING CODE 6001-FR-P